DEPARTMENT OF COMMERCE

National Oceanic and Atmospheric Administration

50 CFR Part 648

[Docket No. 071212833-8179-02 ]

RIN 0648-XM09

Fisheries of the Northeastern United States; Atlantic Bluefish Fishery; Commercial Quota Harvested for New York

AGENCY: National Marine Fisheries Service (NMFS), National Oceanic and Atmospheric Administration (NOAA), Commerce.

ACTION: Closure of commercial fishery.

SUMMARY: NMFS announces that the Atlantic bluefish commercial quota available to New York has been harvested. Vessels issued a commercial Federal fisheries permit for the Atlantic bluefish fishery may not land bluefish in New York for the remainder of calendar year 2008, unless additional quota becomes available through a transfer. Regulations governing the Atlantic bluefish fishery require publication of this notification to advise New York that the quota has been harvested and to advise vessel permit holders and dealer permit holders that no commercial quota is available for landing bluefish in New York.

DATES: Effective 0001 hours, December 5, 2008, through 2400 hours, December 31, 2008.

FOR FURTHER INFORMATION CONTACT: Emily Bryant, Fishery Management Specialist, (978) 281-9244.

SUPPLEMENTARY INFORMATION: Regulations governing the Atlantic bluefish fishery are found at 50 CFR part 648. The regulations require annual specification of a commercial quota that is apportioned on a percentage basis among the coastal states from Florida through Maine. The process to set the annual commercial quota and the percent allocated to each state is described in § 648.160.

The initial Federal coastwide commercial quota for Atlantic bluefish for the 2008 calendar year was set equal to 4,787,000 lb (2,171 mt) (73 FR 9958, February 25, 2008). The initial commercial quota was adjusted by transferring 2,918,693 lb (1,324 mt) from the initial recreational allocation, resulting in a total commercial quota of 7,705,244 lb (3,495 mt). The percent allocated to vessels landing bluefish in New York is 10.3851 percent, resulting in an initial commercial quota of 800,195 lb (363 mt). The 2008 allocation was reduced to 747,057 lb (339 mt) (73 FR 9958, February 25, 2008) due to a 2007 quota overage and the 2008 research set-aside quota allocation. Subsequently, during the 2008 fishing year, New York received six transfers of bluefish quota. In August 2008, New York received a transfer from North Carolina in the amount of 100,000 lb (45 mt) (73 FR 48306). In October, Florida transferred 100,000 lb (45 mt) of bluefish to New York (73 FR 60986). In November, Connecticut, Rhode Island, Maryland, and Delaware transferred 20,000 lb (10 mt), 50,000 lb (23 mt), 50,000 lb (23 mt), and 90,000 lb (41 mt), respectively, of their 2008 commercial quotas to New York (73 FR 71561). These transfers increased New York's bluefish quota allocation to 1,157,057 lb (525 mt).

The regulations at § 648.161(b) require the Administrator, Northeast Region, NMFS (Regional Administrator), to monitor state commercial quotas and to determine when a state's commercial quota has been harvested. NMFS then publishes a notification in the Federal Register to advise the state and to notify Federal vessel and dealer permit holders that, effective upon a specific date, the state's commercial quota has been harvested and no commercial quota is available for landing bluefish in that state. The Regional Administrator has determined, based upon dealer reports and other available information, that New York has harvested its quota for calendar year 2008.

The regulations at § 648.4(b) provide that Federal permit holders agree, as a condition of the permit, not to land bluefish in any state that the Regional Administrator has determined no longer has commercial quota available. Therefore, effective 0001 hours, December 5, 2008, further landings of bluefish in New York by vessels holding Atlantic bluefish commercial Federal fisheries permits are prohibited for the remainder of the 2008 calendar year, unless additional quota becomes available through a transfer and is announced in the Federal Register. Effective 0001 hours, December 5, 2008, federally permitted dealers are also notified that they may not purchase bluefish from federally permitted vessels that land in New York for the remainder of the calendar year, or until additional quota becomes available through a transfer.

Classification

This action is required by 50 CFR part 648 and is exempt from review under Executive Order 12866.

Authority: 16 U.S.C. 1801 et seq.

Dated: December 1, 2008.
Emily H. Menashes,
Acting Director, Office of Sustainable Fisheries, National Marine Fisheries Service.

[FR Doc. E8-28971 Filed 12-3-08; 4:15 pm]

BILLING CODE 3510-22-S